DEPARTMENT OF COMMERCE.

International Trade Administration

A-570-893

Certain Frozen Warmwater Shrimp from the People's Republic of China: Extension of Time Limit for Final Results of the 2004/2005 Antidumping Duty New Shipper Review

AGENCY: Import Administration, International Trade Administration, Department of Commerce.

EFFECTIVE DATE: September 20, 2006.

FOR FURTHER INFORMATION CONTACT: Javier Barrientos, AD/CVD Operations, Office 9, Import Administration, International Trade Administration, U.S. Department of Commerce, 14th Street and Constitution Avenue, NW, Washington, DC 20230; telephone: (202) 482-2243.

Background

On June 27, 2006, the Department of Commerce (“the Department”) issued the preliminary results of this new shipper review. See Certain Frozen Warmwater Shrimp from the People's Republic of China: Preliminary Results of the Antidumping Duty New Shipper Review, 71 FR 38368 (July 6, 2006) (“Preliminary Results”).

Extension of Time Limits for Final Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the final results of a new shipper review to 150 days if it determines that the case is extraordinarily complicated. See section 751(a)(2)(B)(iv) of the Act, and 19 CFR 351.214(i)(2).

In order to allow parties additional time to submit comments regarding the Department's Preliminary Results, the Department extended the deadline for the submission of case and rebuttal briefs by 48 days. As a result of the extensions and the extraordinarily complicated issues raised in this review segment, including surrogate valuation and bona fides issues, it is not practicable to complete this new shipper review within the current time limit. Accordingly, the Department is extending the time limit for the completion of the final results by 60 days until November 24, 2006, in accordance with section 751(a)(2)(B)(iv) of the Act and 19 CFR 351.214(i)(2).

We are issuing and publishing this notice in accordance with sections 751(a)(1) and 777(i)(1) of the Act.

Dated: September 13, 2006.
Stephen J. Claeys,
Deputy Assistant Secretary for Import Administration.

[FR Doc. 06-7795 Filed 09-19-06; 8:45 am]

BILLING CODE 3510-DS-S